FEDERAL COMMUNICATIONS COMMISSION

47 CFR Parts 0, 43, 63 and 64

[IB Docket Nos. 02-324, 96-261; DA 02-3314]

International Settlements Policy Reform and International Settlement Rates

AGENCY: Federal Communications Commission.

ACTION: Proposed rule; reopening and extension of comment period.

SUMMARY: On October 25, 2002, the Federal Communications Commission published a proposed rule document initiating a proceeding to re-examine the Commission's International Settlements Policy. In light of recent international developments, the Commission decided to extend the initial pleading cycle by 35 days to allow interested parties an opportunity to include in their initial comments any response to these recent developments and their effect on the policies under consideration in the proposed rulemaking.

DATES: Comments are due on or before January 14, 2003. Reply Comments are due on or before February 6, 2003.

ADDRESSES: Federal Communications Commission, Office of the Secretary, 445 12th Street, SW., Washington, DC 20554. See Supplementary Information for filing instructions.

FOR FURTHER INFORMATION CONTACT: James Ball, Chief, or Lisa Choi, Senior Legal Advisor, Policy Division, International Bureau, (202) 418-1460.

SUPPLEMENTARY INFORMATION: 1. On October 11, 2002, the Commission released a Notice of Proposed Rulemaking (NPRM) seeking comment from the public regarding possible reform of its International Settlements Policy, International Simple Resale and benchmarks policies, and the issue of foreign mobile termination rates. (See 67 FR 65527, October 25, 2002.)

2. The Commission has become aware of the recent actions taken by several foreign administrations to impose rate floors on international termination rates, including U.S.-international accounting rates. Actions of this nature raise concerns insofar as they have the potential to cause increases in consumer calling rates by raising commercially-negotiated termination rates between U.S. and foreign carriers. The NPRM in this proceeding specifically asked for comment on potential anticompetitive harms to U.S. carriers and consumers from foreign carriers with market power.

3. In light of these recent developments and the questions raised in the NPRM regarding possible reform of the Commission's ISP and accounting rate policies, we extend the pleading cycle established in the NPRM, FCC 02-285, IB Docket Nos. 02-324 & 96-261, by 35 days in order to allow interested parties an opportunity to include in their initial comments any response to these recent developments and their effect on the policies under consideration in the proposed rulemaking. We find that the public interest will be served by this brief extension of both the comment and reply dates to allow for a more complete record in this proceeding.

4. Accordingly, pursuant to §§ 1.1 of the Commission's rules, 47 CFR 1.1, the new comment due date is January 14, 2003 and the new reply comment due date is February 6, 2003. Instructions for filing pleadings in this proceeding are set forth in the NPRM, available on the Commission's website at http://www.fcc.gov. All comments and reply comments will be available for public inspection during regular business hours in the FCC Reference Information Center, Room CY-A257, 445 Twelfth Street, SW., Washington, DC 20554.

Federal Communications Commission.
James Ball,
Chief, Policy Division, International Bureau.

[FR Doc. 02-31604 Filed 12-16-02; 8:45 am]

BILLING CODE 6712-01-P